DEPARTMENT OF ENERGY

Federal Energy Regulatory Commission

Combined Notice of Filings #1

Take notice that the Commission received the following electric rate filings:

Docket Numbers: ER10-1437-002.

Applicants: Tampa Electric Company.

Description: Second Supplement to June 30, 2014 Triennial Market Power Update of Tampa Electric Company.

Filed Date: 6/16/15.

Accession Number: 20150616-5351.

Comments Due: 5 p.m. ET 7/7/15.

Docket Numbers: ER10-2721-005.

Applicants: El Paso Electric Company.

Description: Supplement to April 15, 2015 Non-Material Change in Status Filing of El Paso Electric Company.

Filed Date: 6/17/15.

Accession Number: 20150617-5187.

Comments Due: 5 p.m. ET 7/8/15.

Docket Numbers: ER12-1770-002.

Applicants: DES Wholesale, LLC.

Description: Notice of Change in Status of DES Wholesale, LLC.

Filed Date: 6/16/15.

Accession Number: 20150616-5369.

Comments Due: 5 p.m. ET 7/7/15.

Docket Numbers: ER15-1534-000.

Applicants: Midcontinent Independent System Operator, Inc.

Description: Report Filing: 2015-06-17_SA 2772 Refund Report of ATC-MGE CFA to be effective N/A.

Filed Date: 6/17/15.

Accession Number: 20150617-5103.

Comments Due: 5 p.m. ET 7/8/15.

Docket Numbers: ER15-1930-000.

Applicants: Duquesne Keystone LLC.

Description: Duquesne Keystone LLC submits tariff filing per 35.15: notice of cancellation to be effective 6/30/2015.

Filed Date: 6/16/15.

Accession Number: 20150616-5302.

Comment Date: 5 p.m. ET 7/7/15.

Docket Numbers: ER15-1931-000.

Applicants: Duquesne Conemaugh LLC.

Description: Duquesne Conemaugh LLC submits tariff filing per 35.15: notice of cancellation to be effective 6/30/2015.

Filed Date: 06/16/2015.

Accession Number: 20150616-5307.

Comment Date: 5 p.m. ET 7/7/15.

Docket Numbers: ER15-1932-000.

Applicants: PJM Interconnection, L.L.C., Duke Energy Ohio, Inc., Duke Energy Kentucky, Inc.

Description: § 205(d) Rate Filing: Duke submits revisions to H22-A revising the calculations to be effective 6/1/2015.

Filed Date: 6/17/15.

Accession Number: 20150617-5152.

Comments Due: 5 p.m. ET 7/8/15.

Docket Numbers: ER15-1933-000.

Applicants: Florida Power & Light Company.

Description: § 205(d) Rate Filing: FPL Request for Authority to Sell Ancillary Services at Market-Based Rates to be effective 8/16/2015.

Filed Date: 6/17/15.

Accession Number: 20150617-5156.

Comments Due: 5 p.m. ET 7/8/15.

Docket Numbers: ER15-1934-000.

Applicants: Northeast Energy Associates, A Limited Partnership.

Description: Petition of Northeast Energy Associates, A Limited Partnership for Waiver of the Transmission, Markets and Services Tariff of ISO New England, Inc.

Filed Date: 6/17/15.

Accession Number: 20150617-5196.

Comments Due: 5 p.m. ET 7/8/15.

Docket Numbers: ER15-1935-000.

Applicants: PacifiCorp.

Description: § 205(d) Rate Filing: EDF Trading MDUSA to be effective 6/11/2015.

Filed Date: 6/17/15.

Accession Number: 20150617-5217.

Comments Due: 5 p.m. ET 7/8/15.

Docket Numbers: ER15-1936-000.

Applicants: PacifiCorp.

Description: Tariff Cancellation: Termination of Tri-State Construction Agmt—Deaver to be effective 8/16/2015.

Filed Date: 6/17/15.

Accession Number: 20150617-5219.

Comments Due: 5 p.m. ET 7/8/15.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 17, 2015.
Kimberly D. Bose,
Secretary.

[FR Doc. 2015-15430 Filed 6-23-15; 8:45 am]

BILLING CODE 6717-01-P